DEPARTMENT OF VETERANS AFFAIRS

38 CFR Part 17

Update To Access Standards Drive Time Calculations

AGENCY: Department of Veterans Affairs.

ACTION: Guidance.

SUMMARY: This Department of Veterans Affairs (VA) document provides additional information regarding VA's calculation of average drive times for purposes of eligibility determinations for covered veterans to access community care through the Veterans Community Care Program.

DATES: Effective August 14, 2020.

FOR FURTHER INFORMATION CONTACT: Joseph Duran, Office of Community Care (10D), Veterans Health Administration (VHA), Department of Veterans Affairs, Ptarmigan at Cherry Creek, Denver, CO 80209; Joseph.Duran2@va.gov; 303-370-1637 (this is not a toll-free number).

SUPPLEMENTARY INFORMATION: On June 5, 2019, VA published a final rule at 84 FR 26278 to promulgate 38 CFR 17.4000-17.4040 to implement the Veterans Community Care Program established by section 101 of the John S. McCain III, Daniel K. Akaka, and Samuel R. Johnson VA Maintaining Internal Systems and Strengthening Integrated Outside Networks Act of 2018 (MISSION Act), Public Law 115-182.

Section 17.4040 established access standards for purposes of making eligibility determinations under the Veterans Community Care Program under § 17.4010(a)(4). For primary care, mental health care, and non-institutional extended care services, eligibility is established if VA cannot schedule an appointment for the covered veteran with a VA health care provider for the required care or service: (i) Within 30 minutes average driving time of the veteran's residence; and (ii) Within 20 days of the date of request unless a later date has been agreed to by the veteran in consultation with the VA health care provider. For specialty care, eligibility is established if VA cannot schedule an appointment for the covered veteran with a VA health care provider for the required care or service: (i) Within 60 minutes average driving time of the veteran's residence; and (ii) Within 28 days of the date of request unless a later date has been agreed to by the veteran in consultation with the VA health care provider. VA noted in § 17.4040(b) that to calculate average driving time from the veteran's residence in paragraph (a) of the section, VA would use geographic information system software.

In the preamble to the final rule, VA explained that it was not detailing in regulation a specific methodology for calculating average drive time because it was more veteran-centric to maintain operational flexibility to refine and improve VA's average drive-time calculations in response to experience, feedback and changing real-world conditions. See 84 FR 26278, 26299. This final rule further stated that as VA gained more experience with administering the Veterans Community Care Program and received feedback from veterans regarding their experience with the program, VA anticipated refining the tool to calculate average drive times as well as VA systems to improve our consideration of actual conditions that affect travel to receive care and services and to provide more information to veterans regarding calculation of average drive times. See 84 FR 26278, 26301. This notice serves to inform the public that VA is will change the geographic information system software used to the calculate average drive times under § 17.4040.

Description of Changes in Calculating Average Drive Times: As described in the final rule establishing the Veterans Community Care Program (84 FR 26278), VA uses a variety of factors, including distance, route options, and speed limits to calculate the average drive time between the veteran's residence (as noted in VA's enrollment system) and VA facilities that offer the type of care needed by the Veteran. The calculation is similar to the calculations used in popular commercial mapping software used for point-to-point driving directions and estimated travel times. The calculated average is used to determine whether the veteran is eligible for community care based on drive time. The final rule also stated that, in response to comments that requested clarification on how VA will calculate average drive times, that some detailed information regarding average drive time calculations and algorithms is proprietary, and VA was unable to disclose the full method used to make the calculations. See 84 FR 26278, 26300.

VA recognized the concerns voiced by veterans and members of the public at the time we launched the Veterans Community Care Program regarding how we calculate average drive time and whether we are making the best estimates of average drive times. This notice about planned refinements is the result of VA's efforts to continue improving how we calculate this important component of eligibility.

VA is refining the average drive-time calculations in the online Decision Support Tool (DST) to improve eligibility determination results and response times based on feedback received from veterans and VA staff regarding their experiences with the Veterans Community Care Program since its implementation on June 6, 2019.

Effective August 14, 2020, VA will use a new geographic information system within DST. Under the new system, VA will determine drive times between two addresses by developing “service areas” around all VA facilities, which are bands surrounding the facility that reflect drive times in ranges of 10-minute increments, starting with 0-10 minutes, going up to 81-90 minutes. The applicable drive-time standards depend on the type of care being requested (i.e., the veteran can get needed care within 30 minutes' average drive time for primary care, mental health care and extended care services under § 17.4040(a)(1)(i) or within 60 minutes for specialty care services under § 17.4040(a)(2)(i)). Users of the system will get an estimate of the drive time between the veteran's residence and the VA facility in a 10-minute range under the bands, instead of a single-time estimate as in the current system. Covered veterans whose residence address is within a drive-time service area range that exceeds the drive-time standards for the type of care being sought would be determined to be eligible under § 17.4010(a)(4).

The new system will use historical traffic patterns in all searches. The system will calculate average drive times based on historical traffic patterns on Wednesdays at 10 a.m. at the veteran's local time for all searches. We have selected this time and day of the week to reasonably approximate times that veterans would be traveling for appointments, while working within the capabilities of the system and the available data. Historical traffic data will be updated two to three times per year to reflect changes in local travel patterns.

Veterans will benefit from this change in two ways. First, VA believes the new system will better reflect the actual conditions that affect the time it takes for veterans to travel to receive care and services because of the way that historical traffic data will be used and how average travel times will be calculated. Second, we can now offer more information to veterans and the public regarding how VA will calculate average drive times under this new system. While VA is primarily making this change to improve eligibility determination results and response times, it will also impact eligibility under the access standards for some veterans. VA believes the result will be an overall increase in eligibility.

We note that the average drive time is only one element of covered veterans' eligibility for community care. Since VA established the Veterans Community Care Program on June 6, 2019, covered veterans have also been eligible for community care under other criteria (see 38 CFR 17.4010, Veteran Eligibility). For example, covered veterans who would not be considered eligible for community care based solely on the average drive time element of the designated access standard criterion may still be eligible for community care if the veteran and his or her VA provider agree that it is in the best medical interest of the veteran to receive community care. We remain committed to ensuring that covered veterans are referred to community care where it is in their best medical interest, and veterans with concerns about whether they should be referred to the community are always welcome to discuss their options with their VA providers.

Although we are changing the method of calculating average drive times in our DST tool, which may affect some individuals' eligibility, this notice is not changing VA's designated drive time access standard under § 17.4040. The average drive times that establish eligibility under the designated access standards criterion will remain the same after VA updates the average drive-time calculation tool.

VA continues to believe it is more veteran-centric to maintain the operational flexibility to refine and improve VA's calculations in response to experience, feedback and changing real-world conditions, rather than to detail in regulation a specific methodology or considerations that could constrain VA's ability to improve the calculation of average drive times in the future. For that reason, we will continue to update the public through documents in the Federal Register about any changes to how we calculate average drive times for the Veterans Community Care Program.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on June 23, 2020 for publication.

Jeffrey M. Martin,
Assistant Director, Office of Regulation Policy & Management, Office of the Secretary, Department of Veterans Affairs.

[FR Doc. 2020-14341 Filed 7-14-20; 8:45 am]

BILLING CODE 8320-01-P